DEPARTMENT OF LABOR

Mine Safety and Health Administration

30 CFR Part 100

[Docket No. MSHA-2014-0009]

RIN 1219-AB72

Criteria and Procedures for Assessment of Civil Penalties

AGENCY: Mine Safety and Health Administration, Labor.

ACTION: Proposed rule; extension of comment period.

SUMMARY: In response to requests from interested parties, the Mine Safety and Health Administration (MSHA) is extending the comment period on the proposed rule addressing Criteria and Procedures for Assessment of Civil Penalties. This extension gives commenters additional time to review and comment on the proposed rule.

DATES: The comment period for the proposed rule published July 31, 2014, at 79 FR 44494, is extended. Comments must be received or postmarked by midnight Eastern Standard Time on December 3, 2014.

ADDRESSES: Submit comments and informational materials, identified by RIN 1219-AB72 or Docket No. MSHA-2014-0009, by one of the following methods:

• Federal E-Rulemaking Portal: http://www.regulations.gov. Follow the on-line instructions for submitting comments.

• Email: zzMSHA-comments@dol.gov. Include RIN 1219-AB72 or Docket No. MSHA-2014-0009 in the subject line of the message.

• Mail: MSHA, Office of Standards, Regulations, and Variances, 1100 Wilson Boulevard, Room 2350, Arlington, Virginia 22209-3939.

• Fax: 202-693-9441.

• Hand Delivery or Courier: MSHA, 1100 Wilson Boulevard, Room 2350, Arlington, Virginia, between 9 a.m. and 5 p.m. Monday through Friday, except Federal holidays. Sign in at the receptionist's desk on the 21st floor.

Instructions: All submissions must include RIN 1219-AB72 or Docket No. MSHA-2014-0009. Do not include personal information that you do not want publicly disclosed; MSHA will post all comments without change to http://www.regulations.gov and http://www.msha.gov/currentcomments.asp, including any personal information provided.

Docket: For access to the docket to read comments received, go to http://www.regulations.gov or http://www.msha.gov/currentcomments.asp. To read background documents, go to http://www.regulations.gov. Review the docket in person at MSHA, Office of Standards, Regulations, and Variances, 1100 Wilson Boulevard, Room 2350, Arlington, Virginia, between 9:00 a.m. and 5:00 p.m. Monday through Friday, except Federal Holidays. Sign in at the receptionist's desk on the 21st floor.

Email Notification: To subscribe to receive an email notification when MSHA publishes rules in the Federal Register, and program information, instructions, and policy, go to http://www.msha.gov/subscriptions/subscribe.aspx.

FOR FURTHER INFORMATION CONTACT: Sheila A. McConnell, Acting Director, Office of Standards, Regulations, and Variances, MSHA, at mcconnell.sheila.a@dol.gov (email); 202-693-9440 (voice); or 202-693-9441 (facsimile).

SUPPLEMENTARY INFORMATION: On July 31, 2014 (79 FR 44494), MSHA published a proposed rule, Criteria and Procedures for Assessment of Civil Penalties. In response to commenters, MSHA is providing additional time for interested parties to comment on the proposed rule. MSHA is extending the comment period from September 29, 2014, to December 3, 2014.

Authority: 30 U.S.C. 957.

Dated: September 11, 2014.
Joseph A. Main,
Assistant Secretary of Labor for Mine Safety and Health.

[FR Doc. 2014-22000 Filed 9-15-14; 8:45 am]

BILLING CODE 4510-43-P